DEPARTMENT OF HOMELAND SECURITY

Faith-Based Security Advisory Council; Request for Applicants for Appointment

AGENCY: Office of Partnership and Engagement (OPE), Department of Homeland Security (DHS).

ACTION: Notice; request for applicants.

SUMMARY: The Office of Partnership and Engagement is requesting individuals who are interested in serving on the Faith-Based Security Advisory Council (FBSAC) to apply for appointments as identified in this notice. Pursuant to the Secretary's authority within the Homeland Security Act, this agency-led committee will be established and will operate under the provisions of the Federal Advisory Committee Act.

DATES: Resumes will be accepted until 11:59 p.m. EST on August 31, 2020.

ADDRESSES: The preferred method of submission is via email. However, resumes may also be submitted by mail. Please only submit by ONE of the following methods:

• Email: FBSAC@hq.dhs.gov.

• Mail: Department of Homeland Security: FBSAC ADFO Traci Silas, 2707 Martin Luther King Jr. Ave, Washington, DC 20020.

FOR FURTHER INFORMATION CONTACT: Alternate Designated Federal Officer: Traci Silas, (202) 603-1142, FBSAC@hq.dhs.gov.

SUPPLEMENTARY INFORMATION: The FBSAC shall provide organizationally independent, strategic, timely, specific and actionable advice to the Secretary through the Assistant Secretary for the Office of Partnership and Engagement (OPE), who serves as the DHS Faith-Based Organizations Security Coordinator and Executive Director on matters related to houses of worship, faith-based organizations, and preparedness. The FBSAC serves strictly as an advisory body with the purpose of providing advice upon the request of the Secretary. FBSAC advice may include:

A. Strategy and Policy: Recommendations for the development of strategies and policies that will further the Department's ability to prevent, protect against, respond to, and recover from terrorist attacks, major disasters, or other emergencies.

B. Information sharing and Coordination: Recommendations for improving coordination and sharing of threat and security-related information, internally across the Department, externally across the Federal Government, and among state, local, tribal governments, first responders, the private and non-profit sectors, academia, and research communities.

C. Management and Implementation: Recommendations for the development and implementation of specific programs or initiatives to prevent, protect against, respond to, and recover from acts of terrorism and targeted violence.

D. Evaluation and Feedback: Recommendations for the efficiency and effectiveness of the Department's faith-based organization security programs (e.g., two-way information sharing, facilitate training, building of bridges between faith-based communities and their law enforcement partners, addressing community issues of concerns, FEMA's non-profit security grant program, security training and tools for faith-based organizations, etc.). Recommendations will also prioritize how to prevent, protect against, respond to, and recover from domestic and international terrorist attacks (e.g., white supremacist extremist attacks). This includes providing feedback on how DHS can address the needs of the faith-based community against evolving and future threats as they arise.

Solicitation for membership will be done through the Federal Register at a minimum, but may include additional correspondence to key stakeholders (i.e., DHS leadership, existing DHS faith-based organization contacts, Congressional partners, White House staff, etc).

Members of the FBSAC are appointed by the Secretary for specified terms of appointment. The FBSAC membership selection and appointment process is designed to ensure continuity of FBSAC membership, and to afford the Secretary the advisory input of the most capable, diverse, and novel perspectives that the country has to offer. FBSAC members shall be appointed from known national leaders representative of the private sector, academia, professional service associations, federally funded research and development centers, nongovernmental organizations, State local and tribal governments, and other appropriate professions and communities. Individuals who are interested in serving on the committee are invited to apply for consideration for appointment. There is no application form; however, a current resume and statement of interest is required. The appointment shall be for a term of up to three years. Individuals selected for the appointment shall serve as Special Government Employees (SGEs), defined in section 202(a) of title 18, United States Code, regular government employees, or representatives. The candidates selected for the SGE appointments will be required to complete a New Entrant Confidential Financial Disclosure Form (OGE Form 450) annually. All non-federal members must also complete a background investigation, a gratuitous service agreement and a non-disclosure agreement.

FBSAC shall meet as often as needed to fulfill its mission, but typically twice each fiscal year to address its objectives and duties. The committee will aim to meet in person at least once each fiscal year with additional meetings held via teleconference. FBSAC members may be reimbursed for travel and per diem incurred in the performance of their duties as members of the committee. All travel for FBSAC business must be approved in advance by the Designated Federal Officer. To the extent practical, members shall serve on any subcommittee that is established.

The Department of Homeland Security does not discriminate in employment on the basis of race, color, religion, sex, national origin, political affiliation, sexual orientation, gender identity, marital status, disability and genetic information, age, membership in an employee organization, or other non-merit factor. DHS strives to achieve a diverse candidate pool for all its recruitment actions.

Zarinah Traci Silas,
Senior Director and Alternate Designated Federal Official.

[FR Doc. 2020-16676 Filed 7-30-20; 8:45 am]

BILLING CODE 9112-FN-P